DEPARTMENT OF ENERGY

Federal Energy Regulatory Commission

Combined Notice of Filings #1

Take notice that the Commission received the following electric rate filings:

Docket Numbers: ER11-2402-001.

Applicants: Niagara Mohawk Power Corporation, New York Independent System Operator, Inc.

Description: Compliance filing: Niagara Mohawk compliance—Appendices of SA 316 between NMPC & WPS Syracuse to be effective 2/15/2011.

Filed Date: 4/28/17.

Accession Number: 20170428-5113.

Comments Due: 5 p.m. ET 5/19/17.

Docket Numbers: ER17-1488-000.

Applicants: PJM Interconnection, L.L.C.

Description: § 205(d) Rate Filing: Amendment to SA Nos. 2554 and 3771, Queue Nos. Z1-087 & Y1-033—MAIT Integration to be effective 2/4/2014.

Filed Date: 4/27/17.

Accession Number: 20170427-5387.

Comments Due: 5 p.m. ET 5/18/17.

Docket Numbers: ER17-1489-000.

Applicants: NorthWestern Corporation.

Description: § 205(d) Rate Filing: SA 811—Montana DOT Fast Process Agreement (Russell St—Idaho to Dakota) to be effective 6/28/2017.

Filed Date: 4/28/17.

Accession Number: 20170428-5204.

Comments Due: 5 p.m. ET 5/19/17.

Docket Numbers: ER17-1490-000.

Applicants: Pacific Gas and Electric Company.

Description: Tariff Cancellation: Notice of Termination of GMC Pass-Through Tariff to be effective 5/1/2017.

Filed Date: 4/28/17.

Accession Number: 20170428-5235.

Comments Due: 5 p.m. ET 5/19/17.

Docket Numbers: ER17-1491-000.

Applicants: PJM Interconnection, L.L.C.

Description: § 205(d) Rate Filing: Original Service Agreement No. 4693, Queue No. AA2-130 to be effective 4/10/2017.

Filed Date: 4/28/17.

Accession Number: 20170428-5276.

Comments Due: 5 p.m. ET 5/19/17.

Docket Numbers: ER17-1492-000.

Applicants: Duke Energy Carolinas, LLC.

Description: § 205(d) Rate Filing: DEC-Dallas RS No. 328 Revised PPA to be effective 7/1/2017.

Filed Date: 4/28/17.

Accession Number: 20170428-5291.

Comments Due: 5 p.m. ET 5/19/17.

Docket Numbers: ER17-1493-000.

Applicants: California Independent System Operator Corporation.

Description: § 205(d) Rate Filing: 2017-04-28 Coordinated Transmission Agreement Bonneville Power Administration to be effective 7/1/2017.

Filed Date: 4/28/17.

Accession Number: 20170428-5300.

Comments Due: 5 p.m. ET 5/19/17.

Docket Numbers: ER17-1494-000.

Applicants: Vista Energy Storage, LLC.

Description: Baseline eTariff Filing: Application for Market-Based Rate Authorization & Request for Waivers to be effective 7/1/2017.

Filed Date: 4/28/17.

Accession Number: 20170428-5304.

Comments Due: 5 p.m. ET 5/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2017.
Kimberly D. Bose,
Secretary.

[FR Doc. 2017-09108 Filed 5-4-17; 8:45 am]

BILLING CODE 6717-01-P